SURFACE TRANSPORTATION BOARD

[Docket No. FD 36641]

Eastern Maine Railway Company—Acquisition and Operation Exemption—Central Maine & Quebec Railway US Inc., d/b/a Canadian Pacific

Eastern Maine Railway Company (EMR), a Class III common carrier, has filed a verified notice of exemption under 49 CFR 1150.41 to acquire from the current owner and operator, Central Maine & Quebec Railway US Inc., d/b/a Canadian Pacific (CMQR), and to operate approximately 36.57 miles of a main line and approximately nine miles of branch line in Maine. The main line is between milepost 109 (Grindstone, Penobscot County, Me.) and milepost 72.43 (near Brownville in Piscataquis County, Me.). The branch lines consist of: (1) the East Millinocket branch line, from milepost 0.0 to milepost 7.72; and (2) the Millinocket branch line, from milepost 104.65 southward 1.2 miles to the end of the track. EMR will also acquire all other associated yard, spur, siding, and other track along the main line between milepost 109 and milepost 72.43.¹

¹ The Line refers collectively to the main line, branch lines, and all other associated yard, spur, siding, and other track along the main line.

According to the verified notice, EMR will also acquire incidental trackage rights on CMQR between milepost 72.43 (near Brownville) and the connection of CMQR's track with an EMR rail line in the vicinity of Brownville Junction (milepost 75.07 of CMQR's Bangor Subdivision), a distance of approximately three miles, including CMQR's Brownville Junction yard, as well as use of the CMQR main line to the west for one mile (to milepost 1.0 of CMQR's Moosehead Subdivision). Furthermore, the Maine Northern Railway Company (“MNRC”) currently has overhead trackage rights over the Line. EMR is acquiring the Line subject to these overhead trackage rights. Thus, MNRC's overhead trackage rights will remain unchanged by EMR's acquisition of the Line.

According to the verified notice, the parties executed an agreement on September 1, 2022, by which EMR will acquire the Line from CMQR.

EMR certifies that the proposed acquisition and operation of the Line does not involve a provision or agreement that may limit future interchange with a third-party connecting carrier. EMR further certifies that its projected annual revenues as a result of this transaction will not exceed the maximum revenue of a Class III rail carrier and will not exceed $5 million.

The transaction may be consummated on or after on or after November 5, 2022, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than October 28, 2022 (at least seven days before the exemption becomes effective).

All pleadings, referring to Docket No. FD 36641, should be filed with the Surface Transportation Board either via e-filing on the Board's website or in writing addressed to 395 E St. SW, Washington, DC 20423-0001. In addition, a copy of each pleading must be served on EMR's representative, David E. Benz, Thompson Hine LLP, 1919 M Street NW, Suite 700, Washington, DC 20036.

According to EMR, this action is categorically excluded from environmental review under 49 CFR 1105.6(c) and from historic reporting requirements under 49 CFR 1105.8(b).

Board decisions and notices are available at www.stb.gov.

Decided: October 18, 2022.
By the Board, Mai T. Dinh, Director, Office of Proceedings.
Kenyatta Clay,
Clearance Clerk.

[FR Doc. 2022-22912 Filed 10-20-22; 8:45 am]

BILLING CODE 4915-01-P